DEPARTMENT OF DEFENSE

Department of the Army; Corps of Engineers

Intent To Prepare a Draft Environmental Impact Statement for the Water Conservation Area 3 Decompartmentalization and Sheet Flow Enhancement Project, Part 1

AGENCY: Department of the Army, U.S. Army Corps of Engineers, DoD.

ACTION: Notice of intent.

SUMMARY: The Jacksonville District, U.S. Army Corps of Engineers (Corps), intends to prepare an integrated Project Implementation Report (PIR) and Environmental Impact Statement (EIS) for the Water Conservation Area 3 (WCA-3) Decompartmentalization and Sheet Flow Enhancement Project Part 1 (Decomp Project). The project is a cooperative effort between the Corps and the south Florida Water Management District (SFWMD), which is also a cooperating agency for this Draft EIS (DEIS). WCA-3 (made up of WCA 3A and WCA 3B) is located immediately north of Everglades National park (ENP) in Broward and Miami-Dade Counties. Among the environmentally detrimental effects resulting from the construction of the Central and Southern Florida Project (C&SF), of which WCA 3 is a part, are the compartmentalization and constriction of historically broad wetlands, altered hydroperiods, reduction of wildlife, and degradation of water quality. The Decomp Project will investigate alternatives to reduce barriers to sheet flow such as canals and levees to the extent practicable. The goal is to restore historical sheet flow distributions, depth patterns, hydroperiods, and hydrologic connectivity in the various landscapes within WCA-3 and in Northeast Shark River Slough within ENP, thereby creating a sustainable environment suitable for the recovery and long-term survival of native flora and fauna in concert with related projects.

FOR FURTHER INFORMATION CONTACT: U.S. Army Corps of Engineers, Planning Division, Environmental Branch, P.O. Box 4970, Jacksonville, FL, 32232-0019; Attn: Ms. Janet Cushing or by telephone at 904-232-2259 or e-mail: janet.a.cushing@usace.army.mil.

SUPPLEMENTARY INFORMATION:

a. Authorization: Section 601 of the Water Resources Development Act of 2000 (Pub. L. 106-541) authorized the implementation of the Decomp Project.

b. Study Area: The study area is the WCA-3 and the northeast section of Everglades National Park, in Broward and Miami-Dade Counties.

c. Project Scope: The scope is to investigate alternatives to reduce barriers to sheet flow through modifications to the canals and levees in WCA-3, and modifications to the section of Tamiami Trail south of WCA-3B. Also, seepage control features may be constructed, as needed, along L-30 to prevent project-induced increased flood damages downstream. The evaluation of alternatives and selection of a recommended plan will be documented in the PIR and EIS.

d. Preliminary Alternatives: The conceptual design features of the project presented in the 1999 C&SF Comprehensive Review Study include backfilling all or portions of the Miami Canal between S-8 and the east coast protective levee (L-33); increasing the conveyance capacity of four sections of the North New River Conveyance System to compensate for conveyance lost from the Miami Canal: (1) Along L-38 canal from S-7 to S-34; (2) across Interstate 75; (3) on L-37 canal from I-75 to C-11; and (4) on L-33 canal from C-9 to C-6; constructing additional structures to pass flow from WCA-3A to WCA-3B through the L-67A Levee; degrading all or portions of the L-29 Levee from S-333 east to S-334 and filling in all or portions of the L-29 borrow canal; raising and bridging all or portions of the Tamiami Trail from S-333 east to S-334; and constructing seepage control features along L-30. Alternative plans to be developed and evaluated may include a combination of these features to greater or lesser degrees, such as leaving canals in place, partial canal filling, strategic placement of fill plugs, the creation of tree islands from levee material, and exploring other possibilities that can meet the goals and objectives of the project.

e. Issues: The EIS will address the following issues: The relation between this project and related projects including Modified Water Deliveries to ENP and other Comprehensive Everglades Restoration Plan projects; impacts to recreational fishing and hunting; impacts to aquatic and wetland habitats; water flows; hazardous and toxic waste; water quality; flood protection; aesthetics; fish and wildlife resources, including protected species; tree island habitat, cultural resources; socioeconomic issues; water supply; and other impacts identified through Scoping, public involvement and interagency coordination.

f. Scoping: A Scoping letter and public workshops will be used to invite comments on alternatives and issues from Federal, State, and local agencies, affected Indian tribes, and other interested private organizations and individuals.

g. DEIS Preparation: The integrated draft PIR, including a DEIS, is currently scheduled for publication in the second quarter of 2007.

Dated: November 13, 2003.
James C. Duck,
Chief, Planning Division.

[FR Doc. 03-30158 Filed 12-3-03; 8:45 am]

BILLING CODE 3710-AJ-M